DEPARTMENT OF STATE

[Public Notice 4297]

Bureau of Nonproliferation; Imposition of Nonproliferation Measures Against Foreign Persons, Including a Ban on U.S. Government Procurement

AGENCY: Bureau of Nonproliferation, Department of State.

ACTION: Notice.

SUMMARY: The United States Government has determined that two foreign persons have engaged in proliferation activities that require the imposition of measures pursuant to the Iran-Iraq Arms Nonproliferation Act of 1992.

EFFECTIVE DATE: February 13, 2003.

FOR FURTHER INFORMATION CONTACT: On general issues: Vann H. Van Diepen, Director, Office of Chemical, Biological, and Missile Nonproliferation, Bureau of Nonproliferation, Department of State (202-647-1142). On U.S. Government procurement ban issues: Gladys Gines, Office of the Procurement Executive, Department of State (703-516-1691).

SUPPLEMENTARY INFORMATION: Pursuant to Section 1604 of the Iran-Iraq Arms Nonproliferation Act of 1992 (Pub. L. 102-484), the President's Memorandum Delegation of Authority dated September 27, 1994 (59 FR 50685), and State Department Delegation of Authority No. 145 of February 4, 1980, as amended, the Under Secretary of State for Arms Control and International Security Affairs has determined that the following foreign persons have engaged in proliferation activities that require the imposition of measures as described in section 1604(b) of the Iran-Iraq Arms Nonproliferation Act of 1992 (Pub. L. 102-484):

Protech Consultants Private, Ltd. (India) and its successor entities, parents, or subsidiaries; and

Mohammed Al-Khatib (Jordanian national).

Accordingly, until further notice and pursuant to the provisions of section 1604(b) of the Iran-Iraq Arms Nonproliferation Act of 1992 (Pub. L. 102-484), the following measures are imposed on these foreign persons:

1. For a period of two years, the United States Government shall not procure, or enter into any contract for the procurement of, any goods or services from the sanctioned persons; and

2. For a period of two years, the United States Government shall not issue any license for any export by or to the sanctioned persons.

These measures shall be implemented by the responsible departments and agencies of the United States Government and will remain in place for two years, except to the extent subsequently determined otherwise.

Dated: March 4, 2003.
John S. Wolf,
Assistant Secretary of State for Nonproliferation, Department of State.

[FR Doc. 03-5763 Filed 3-10-03; 8:45 am]

BILLING CODE 4710-25-P